COMMITTEE FOR PURCHASE FROM PEOPLE WHO ARE BLIND OR SEVERELY DISABLED

Procurement List; Deletions

AGENCY: Committee for Purchase From People Who Are Blind or Severely Disabled.

ACTION: Deletions from the Procurement List.

SUMMARY: The Committee is proposing to delete products from the Procurement List that were previously furnished by nonprofit agencies employing persons who are blind or have other severe disabilities.

DATES: Date deleted from the Procurement List: February 4, 2018.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Deletions

On 11/27/2017 (82 FR 226), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s):

9905-02-000-8089—Holder, Label, Brass

9905-02-000-8698—Holder, Label, Brass

Mandatory Source(s) of Supply: CW Resources, Inc., New Britain, CT

Contracting Activity: U.S. Postal Service, Eagan, Eagan, MN

NSN—Product Name:

3920-02-000-1915—Bar Assembly, Door

Mandatory Source of Supply: Rauch, Inc., New Albany, IN

Contracting Activity: USPS, Topeka Purchasing Center, Topeka, KS

NSNs—Product Names:

7510-01-600-7561—Wall Calendar, Dated 2017, Wire Bound w/hanger, 15.5″ × 22″

7510-01-600-7564—Monthly Wall Calendar, Dated 2017, Jan-Dec, 8-1/2″ × 11″

7530-01-600-7578—Daily Desk Planner, Dated 2017, Wire bound, Non-refillable, Black Cover

7530-01-600-7592—Weekly Desk Planner, Dated 2017, Wire Bound, Non-refillable, Black Cover

7530-01-600-7600—Weekly Planner Book, Dated 2017, 5″ × 8″, Digital Camouflage

7530-01-600-7611—Monthly Desk Planner, Dated 2017, Wire Bound, Non-refillable, Black Cover

7510-01-600-7622—Wall Calendar, Dated 2017, Wire Bound w/Hanger, 12″ × 17″

Mandatory Source of Supply: Chicago Lighthouse Industries, Chicago, IL

Contracting Activity: General Services Administration, New York, NY

Amy B. Jensen,
Director, Business Operations.

[FR Doc. 2018-00011 Filed 1-4-18; 8:45 am]

BILLING CODE 6353-01-P